SMALL BUSINESS ADMINISTRATION

[Disaster Declaration #17352 and #17353; KANSAS Disaster Number KS-00149]

Presidential Declaration of a Major Disaster for Public Assistance Only for the State of Kansas

AGENCY: Small Business Administration.

ACTION: Notice.

SUMMARY: This is a Notice of the Presidential declaration of a major disaster for Public Assistance Only for the State of Kansas (FEMA-4640-DR), dated 02/17/2022.

Incident: Severe Storms and Straight-line Winds.

Incident Period: 12/15/2021.

DATES: Issued on 02/17/2022.

Physical Loan Application Deadline Date: 04/18/2022.

Economic Injury (EIDL) Loan Application Deadline Date: 11/17/2022.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW, Suite 6050, Washington, DC 20416, (202) 205-6734.

SUPPLEMENTARY INFORMATION: Notice is hereby given that as a result of the President's major disaster declaration on 02/17/2022, Private Non-Profit organizations that provide essential services of a governmental nature may file disaster loan applications at the address listed above or other locally announced locations.

The following areas have been determined to be adversely affected by the disaster:

Primary Counties: Barton, Brown, Clay, Cloud, Doniphan, Edwards, Ellis, Ellsworth, Ford, Geary, Gove, Graham, Grant, Gray, Greeley, Hamilton, Haskell, Hodgeman, Jewell, Kearny, Lane, Lincoln, Logan, Marshall, Meade, Mitchell, Morris, Morton, Nemaha, Ness, Osborne, Ottawa, Pawnee, Republic, Rice, Riley, Rooks, Rush, Russell, Saline, Scott, Sheridan, Smith, Stafford, Stanton, Stevens, Sumner, Trego, Wabaunsee, Wallace, Washington, Wichita, Wyandotte.

The Interest Rates are:

| Percent
For Physical Damage:
Non-Profit Organizations with Credit Available Elsewhere | 1.875
Non-Profit Organizations without Credit Available Elsewhere | 1.875
For Economic Injury:
Non-Profit Organizations without Credit Available Elsewhere | 1.875

The number assigned to this disaster for physical damage is 17352 B and for economic injury is 17353 0.

(Catalog of Federal Domestic Assistance Number 59008)

Barbara Carson,
Acting Associate Administrator for Disaster Assistance.

[FR Doc. 2022-04040 Filed 2-24-22; 8:45 am]

BILLING CODE 8026-03-P